DEPARTMENT OF TRANSPORTATION

Federal Aviation Administration

14 CFR Part 97

[Docket No. 31081 Amdt. No. 3700]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective June 17, 2016. The compliance date for each SIAP, associated Takeoff Minimums, and ODP is specified in the amendatory provisions.

The incorporation by reference of certain publications listed in the regulations is approved by the Director of the Federal Register as of June 17, 2016.

ADDRESSES: Availability of matter incorporated by reference in the amendment is as follows:

For Examination

1. U.S. Department of Transportation, Docket Ops-M30, 1200 New Jersey Avenue SE., West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420) Flight Technologies and Procedures Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore— (1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on June 3, 2016.
John S. Duncan,
Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

§§ 97.23, 97.25, 97.27, 97.29, 97.31, 97.33, 97.35 [AMENDED]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC Date | State | City | Airport | FDC No. | FDC Date | Subject
21-Jul-16 | NE | Hartington | Hartington Muni/Bud Becker Fld | 5/1981 | 5/12/16 | RNAV (GPS) RWY 13, Orig-A
21-Jul-16 | AK | Soldotna | Soldotna | 5/7521 | 5/12/16 | RNAV (GPS) RWY 25, Amdt 1B
21-Jul-16 | AK | Soldotna | Soldotna | 5/7522 | 5/12/16 | RNAV (GPS) RWY 7, Orig-D
21-Jul-16 | AK | Soldotna | Soldotna | 5/7523 | 5/12/16 | NDB RWY 25, Amdt 3C
21-Jul-16 | AK | Soldotna | Soldotna | 5/7524 | 5/12/16 | NDB RWY 7, Amdt 2D
21-Jul-16 | AK | Soldotna | Soldotna | 5/7525 | 5/12/16 | VOR/DME-A, Amdt 7E
21-Jul-16 | WA | Moses Lake | Grant Co Intl | 5/9980 | 5/12/16 | RNAV (RNP) Z RWY 32R, Orig
21-Jul-16 | WA | Moses Lake | Grant Co Intl | 5/9982 | 5/12/16 | RNAV (RNP) Z RWY 4, Orig
21-Jul-16 | WA | Moses Lake | Grant Co Intl | 5/9983 | 5/12/16 | RNAV (GPS) Y RWY 32R, Amdt 3
21-Jul-16 | WA | Moses Lake | Grant Co Intl | 5/9984 | 5/12/16 | RNAV (GPS) Y RWY 4, Amdt 1A
21-Jul-16 | IN | New Castle | New Castle-Henry Co Muni | 6/0227 | 5/23/16 | VOR RWY 27, Amdt 10
21-Jul-16 | IN | New Castle | New Castle-Henry Co Muni | 6/0229 | 5/23/16 | RNAV (GPS) RWY 9, Orig
21-Jul-16 | IN | New Castle | New Castle-Henry Co Muni | 6/0230 | 5/23/16 | RNAV (GPS) RWY 27, Orig
21-Jul-16 | OK | Watonga | Watonga Rgnl | 6/1113 | 5/24/16 | VOR/DME-A, Amdt 3
21-Jul-16 | OK | Watonga | Watonga Rgnl | 6/1115 | 5/24/16 | RNAV (GPS) RWY 17, Orig
21-Jul-16 | AK | Dillingham | Dillingham | 6/1127 | 5/12/16 | RNAV (GPS) RWY 19, Amdt 2D
21-Jul-16 | MO | Camdenton | Camdenton Memorial-Lake Rgnl | 6/1225 | 5/12/16 | RNAV (GPS) RWY 33, Amdt 1A
21-Jul-16 | MN | Springfield | Springfield Muni | 6/1264 | 5/23/16 | RNAV (GPS) RWY 31, Orig-A
21-Jul-16 | CO | Steamboat Springs | Steamboat Springs/Bob Adams Field | 6/1595 | 5/24/16 | RNAV (GPS)-E, Orig
21-Jul-16 | NE | Omaha | Eppley Airfield | 6/2018 | 5/24/16 | RNAV (RNP) Z RWY 14R, Orig
21-Jul-16 | NE | Omaha | Eppley Airfield | 6/2019 | 5/24/16 | RNAV (RNP) Z RWY 36, Orig
21-Jul-16 | NE | Omaha | Eppley Airfield | 6/2020 | 5/24/16 | RNAV (RNP) Z RWY 32L, Orig
21-Jul-16 | NE | Omaha | Eppley Airfield | 6/2022 | 5/24/16 | RNAV (RNP) Z RWY 18, Orig
21-Jul-16 | MN | Springfield | Springfield Muni | 6/2052 | 5/23/16 | RNAV (GPS) RWY 13, Orig-A
21-Jul-16 | IN | Wabash | Wabash Muni | 6/2057 | 5/24/16 | RNAV (GPS) RWY 9, Orig
21-Jul-16 | IN | Wabash | Wabash Muni | 6/2058 | 5/24/16 | RNAV (GPS) RWY 27, Orig
21-Jul-16 | NM | Lovington | Lea County-Zip Franklin Memorial | 6/2074 | 5/23/16 | RNAV (GPS) RWY 3, Amdt 1
21-Jul-16 | NM | Lovington | Lea County-Zip Franklin Memorial | 6/2086 | 5/23/16 | RNAV (GPS) RWY 21, Amdt 1
21-Jul-16 | IL | Vandalia | Vandalia Muni | 6/2147 | 5/23/16 | VOR RWY 18, Amdt 12
21-Jul-16 | TN | Covington | Covington Muni | 6/2153 | 5/24/16 | RNAV (GPS) RWY 1, Orig-A
21-Jul-16 | AK | Wasilla | Wasilla | 6/2275 | 5/25/16 | Takeoff Minimums and (Obstacle) DP, Amdt 2
21-Jul-16 | WY | Riverton | Riverton Rgnl | 6/2276 | 5/23/16 | VOR RWY 28, Amdt 10
21-Jul-16 | WY | Riverton | Riverton Rgnl | 6/2277 | 5/23/16 | ILS or LOC RWY 28, Amdt 3
21-Jul-16 | WY | Riverton | Riverton Rgnl | 6/2278 | 5/23/16 | RNAV (GPS) RWY 10, Amdt 2
21-Jul-16 | WY | Riverton | Riverton Rgnl | 6/2279 | 5/23/16 | RNAV (GPS) RWY 28, Amdt 1
21-Jul-16 | WY | Riverton | Riverton Rgnl | 6/2291 | 5/23/16 | VOR RWY 10, Amdt 10
21-Jul-16 | NM | Hobbs | Lea County Rgnl | 6/2634 | 5/23/16 | RNAV (GPS) RWY 3, Amdt 2
21-Jul-16 | NM | Hobbs | Lea County Rgnl | 6/2635 | 5/23/16 | RNAV (GPS) RWY 21, Amdt 1
21-Jul-16 | NM | Hobbs | Lea County Rgnl | 6/2638 | 5/23/16 | RNAV (GPS) RWY 30, Amdt 1
21-Jul-16 | MI | Traverse City | Cherry Capital | 6/2641 | 5/12/16 | RNAV (GPS) RWY 36, Orig
21-Jul-16 | MI | Traverse City | Cherry Capital | 6/2642 | 5/12/16 | RNAV (GPS) RWY 28, Orig
21-Jul-16 | OH | Jackson | James A Rhodes | 6/2677 | 5/12/16 | RNAV (GPS) RWY 1, Amdt 1C
21-Jul-16 | KS | Emporia | Emporia Muni | 6/2732 | 5/24/16 | Takeoff Minimums and (Obstacle) DP, Orig
21-Jul-16 | MO | Mexico | Mexico Memorial | 6/2743 | 5/12/16 | VOR/DME RWY 24, Amdt 2A
21-Jul-16 | MO | Mexico | Mexico Memorial | 6/2745 | 5/12/16 | LOC/DME RWY 24, Amdt 1B
21-Jul-16 | MO | Mexico | Mexico Memorial | 6/2746 | 5/12/16 | RNAV (GPS) RWY 6, Amdt 1A
21-Jul-16 | TX | Dallas | Dallas Love Field | 6/2873 | 5/12/16 | ILS or LOC RWY 31R, ILS RWY 31R (SA CAT I), Amdt 6
21-Jul-16 | OK | Tulsa | Tulsa Intl | 6/2897 | 5/24/16 | ILS or LOC RWY 36R, ILS RWY 36R (SA CAT I), ILS RWY 36R (CAT II), Amdt 29E
21-Jul-16 | NM | Artesia | Artesia Muni | 6/2916 | 5/23/16 | RNAV (GPS) RWY 21, Amdt 1
21-Jul-16 | NM | Artesia | Artesia Muni | 6/2917 | 5/23/16 | RNAV (GPS) RWY 30, Amdt 1
21-Jul-16 | NM | Artesia | Artesia Muni | 6/2918 | 5/23/16 | RNAV (GPS) RWY 12, Amdt 1
21-Jul-16 | MN | Crookston | Crookston Muni Kirkwood Fld | 6/2922 | 5/23/16 | VOR/DME RWY 13, Orig
21-Jul-16 | CO | Akron | Colorado Plains Rgnl | 6/2981 | 5/23/16 | RNAV (GPS) RWY 11, Amdt 1
21-Jul-16 | CO | Akron | Colorado Plains Rgnl | 6/2982 | 5/23/16 | VOR RWY 29, Orig-A
21-Jul-16 | MN | Orr | Orr Rgnl | 6/3104 | 5/24/16 | RNAV (GPS) RWY 13, Orig-B
21-Jul-16 | MN | Orr | Orr Rgnl | 6/3105 | 5/24/16 | NDB RWY 13, Amdt 8B
21-Jul-16 | WV | Fairmont | Fairmont Muni-Frankman Field | 6/3158 | 5/24/16 | RNAV (GPS) RWY 23, Amdt 1
21-Jul-16 | IA | Newton | Newton Muni | 6/3255 | 5/25/16 | ILS or LOC RWY 32, Amdt 2
21-Jul-16 | IA | Newton | Newton Muni | 6/3256 | 5/25/16 | RNAV (GPS) RWY 14, Amdt 1
21-Jul-16 | IA | Newton | Newton Muni | 6/3257 | 5/25/16 | RNAV (GPS) RWY 32, Orig-A
21-Jul-16 | IA | Newton | Newton Muni | 6/3260 | 5/25/16 | VOR RWY 14, Amdt 9
21-Jul-16 | IA | Newton | Newton Muni | 6/3261 | 5/25/16 | Takeoff Minimums and (Obstacle) DP, Orig
21-Jul-16 | OK | Tulsa | Richard Lloyd Jones Jr | 6/3451 | 5/24/16 | RNAV (GPS) RWY 19R, Orig
21-Jul-16 | FL | Palm Coast | Flagler County | 6/3500 | 5/24/16 | RNAV (GPS) RWY 6, Amdt 1C
21-Jul-16 | FL | Palm Coast | Flagler County | 6/3503 | 5/24/16 | RNAV (GPS) RWY 11, Amdt 1B
21-Jul-16 | FL | Palm Coast | Flagler County | 6/3505 | 5/24/16 | RNAV (GPS) RWY 24, Orig-D
21-Jul-16 | FL | Palm Coast | Flagler County | 6/3507 | 5/24/16 | RNAV (GPS) RWY 29, Orig-D
21-Jul-16 | WI | Boyceville | Boyceville Muni | 6/3660 | 5/24/16 | RNAV (GPS) RWY 8, Amdt 1A
21-Jul-16 | OH | Toledo | Toledo Executive | 6/4055 | 5/25/16 | VOR RWY 4, Amdt 9C
21-Jul-16 | AR | Rogers | Rogers Executive—Carter Field | 6/4083 | 5/25/16 | ILS or LOC RWY 20, Amdt 3B
21-Jul-16 | AR | Rogers | Rogers Executive—Carter Field | 6/4085 | 5/25/16 | RNAV (GPS) RWY 2, Orig
21-Jul-16 | AR | Rogers | Rogers Executive—Carter Field | 6/4086 | 5/25/16 | Takeoff Minimums and (Obstacle) DP, Orig-A
21-Jul-16 | AR | Rogers | Rogers Executive—Carter Field | 6/4087 | 5/25/16 | VOR RWY 2, Amdt 13C
21-Jul-16 | AR | Rogers | Rogers Executive—Carter Field | 6/4088 | 5/25/16 | RNAV (GPS) RWY 20, Amdt 1
21-Jul-16 | OH | Ashland | Ashland County | 6/4188 | 5/23/16 | RNAV (GPS) RWY 19, Orig-C
21-Jul-16 | WI | Oshkosh | Wittman Rgnl | 6/4428 | 5/12/16 | VOR RWY 9, Amdt 10A
21-Jul-16 | WI | Oshkosh | Wittman Rgnl | 6/4429 | 5/12/16 | VOR RWY 18, Amdt 8A
21-Jul-16 | WI | Oshkosh | Wittman Rgnl | 6/4430 | 5/12/16 | ILS or LOC RWY 36, Amdt 7A
21-Jul-16 | TN | Waverly | Humphreys County | 6/4576 | 5/25/16 | RNAV (GPS) RWY 3, Orig
21-Jul-16 | TN | Waverly | Humphreys County | 6/4580 | 5/25/16 | RNAV (GPS) RWY 21, Orig
21-Jul-16 | TX | Mineola/Quitman | Wood County | 6/4724 | 5/12/16 | RNAV (GPS) RWY 36, Orig-A
21-Jul-16 | TN | Chattanooga | Lovell Field | 6/4738 | 5/24/16 | RNAV (GPS) RWY 33, Orig-A
21-Jul-16 | TN | Chattanooga | Lovell Field | 6/4740 | 5/24/16 | RNAV (GPS) RWY 15, Orig-A
21-Jul-16 | MN | Preston | Fillmore County | 6/4920 | 5/23/16 | RNAV (GPS) RWY 29, Amdt 1A
21-Jul-16 | MN | Preston | Fillmore County | 6/4921 | 5/23/16 | RNAV (GPS) RWY 11, Orig-A
21-Jul-16 | OH | Dayton | Dayton-Wright Brothers | 6/5685 | 5/24/16 | Takeoff Minimums and (Obstacle) DP, Amdt 3
21-Jul-16 | NM | Silver City | Grant County | 6/5861 | 5/23/16 | LOC/DME RWY 26, Amdt 5B
21-Jul-16 | NM | Silver City | Grant County | 6/5862 | 5/23/16 | VOR-A, Amdt 7B
21-Jul-16 | AL | Birmingham | Birmingham-Shuttlesworth Intl | 6/5888 | 5/12/16 | ILS or LOC/DME RWY 24, Amdt 3
21-Jul-16 | OH | Wooster | Wayne County | 6/6086 | 5/24/16 | RNAV (GPS) RWY 28, Orig-A
21-Jul-16 | GA | Atlanta | Dekalb-Peachtree | 6/6380 | 5/12/16 | RNAV (GPS) Y RWY 21L, Amdt 1B
21-Jul-16 | MO | Trenton | Trenton Muni | 6/6403 | 5/12/16 | RNAV (GPS) RWY 18, Orig-A
21-Jul-16 | VA | Roanoke | Roanoke-Blacksburg Rgnl/Woodrum Field | 6/6837 | 5/12/16 | VOR RWY 34, Amdt 1B
21-Jul-16 | GA | Perry | Perry-Houston County | 6/6867 | 5/24/16 | VOR-A, Amdt 5A
21-Jul-16 | KS | Smith Center | Smith Center Muni | 6/7009 | 5/24/16 | GPS RWY 17, Orig
21-Jul-16 | KS | Smith Center | Smith Center Muni | 6/7094 | 5/24/16 | GPS RWY 35, Orig
21-Jul-16 | MO | Mexico | Mexico Memorial | 6/7367 | 5/12/16 | RNAV (GPS) RWY 24, Amdt 1B
21-Jul-16 | NJ | Woodbine | Woodbine Muni | 6/7539 | 5/24/16 | RNAV (GPS) RWY 19, Orig
21-Jul-16 | NE | Hartington | Hartington Muni/Bud Becker Fld | 6/8482 | 5/12/16 | RNAV (GPS) RWY 31, Orig-A
21-Jul-16 | MA | Bedford | Laurence G Hanscom Fld | 6/8821 | 5/23/16 | VOR RWY 23, Amdt 9
21-Jul-16 | TX | Houston | George Bush Intercontinental/Houston | 6/9015 | 5/12/16 | RNAV (GPS) Z RWY 8R, Amdt 4A
21-Jul-16 | TX | Houston | George Bush Intercontinental/Houston | 6/9016 | 5/12/16 | RNAV (RNP) Y RWY 8R, Amdt 1
21-Jul-16 | TX | Houston | George Bush Intercontinental/Houston | 6/9017 | 5/12/16 | ILS or LOC RWY 8R, ILS RWY 8R (SA CAT I), ILS RWY 8R (SA CAT II), Amdt 25A
21-Jul-16 | TX | Houston | George Bush Intercontinental/Houston | 6/9018 | 5/12/16 | GLS RWY 8R, Amdt 1
21-Jul-16 | TX | Houston | George Bush Intercontinental/Houston | 6/9020 | 5/12/16 | RNAV (GPS) Z RWY 9, Amdt 5
21-Jul-16 | TX | Houston | George Bush Intercontinental/Houston | 6/9021 | 5/12/16 | RNAV (RNP) Y RWY 9, Orig
21-Jul-16 | TX | Houston | George Bush Intercontinental/Houston | 6/9022 | 5/12/16 | ILS or LOC RWY 9, ILS RWY 9 (SA CAT I), ILS RWY 9 (SA CAT II), Amdt 10
21-Jul-16 | TX | Houston | George Bush Intercontinental/Houston | 6/9023 | 5/12/16 | GLS RWY 9, Amdt 1
21-Jul-16 | TX | Houston | George Bush Intercontinental/Houston | 6/9034 | 5/12/16 | ILS or LOC RWY 15R, Amdt 2
21-Jul-16 | TX | Houston | George Bush Intercontinental/Houston | 6/9035 | 5/12/16 | RNAV (GPS) RWY 15R, Amdt 2
21-Jul-16 | OK | Miami | Miami Muni | 6/9235 | 5/12/16 | VOR/DME-A, Amdt 2
21-Jul-16 | OK | Miami | Miami Muni | 6/9236 | 5/12/16 | RNAV (GPS) RWY 17, Orig
21-Jul-16 | SC | Charleston | Charleston AFB/Intl | 6/9696 | 5/25/16 | VOR/DME or TACAN RWY 3, Amdt 14A
21-Jul-16 | SC | Charleston | Charleston AFB/Intl | 6/9697 | 5/25/16 | VOR/DME or TACAN RWY 21, Amdt 14
21-Jul-16 | SC | Charleston | Charleston AFB/Intl | 6/9718 | 5/25/16 | VOR/DME or TACAN RWY 33, Amdt 13A
21-Jul-16 | GA | Macon | Middle Georgia Rgnl | 6/9844 | 5/23/16 | Takeoff Minimums and (Obstacle) DP, Amdt 3
21-Jul-16 | GA | Macon | Middle Georgia Rgnl | 6/9896 | 5/23/16 | RNAV (GPS) RWY 23, Amdt 2B
21-Jul-16 | GA | Macon | Middle Georgia Rgnl | 6/9897 | 5/23/16 | RNAV (GPS) RWY 31, Amdt 1B
21-Jul-16 | GA | Macon | Middle Georgia Rgnl | 6/9907 | 5/23/16 | RNAV (GPS) RWY 13, Amdt 2B

[FR Doc. 2016-14132 Filed 6-16-16; 8:45 am]

BILLING CODE 4910-13-P